NATIONAL PRISON RAPE ELIMINATION COMMISSION

Public Hearing; Public Announcement

Pursuant to the Prison Rape Elimination Act of 2003 (Pub. L. 108-79) [42 U.S.C. Section 15601, et seq.]

Agency Holding Meeting: National Prison Rape Elimination Commission.

Date and Time: 9 a.m. on Thursday, August 3, 2006.

Place: Theodore Levin United States Courthouse, 231 West Lafayette Boulevard, Detroit, Michigan.

Status: Open—Public Hearing.

Matters Considered: Federal, State, and local experience with investigating, disciplining, and prosecuting prison sexual assaults.

For Further Information Contact: Richard B. Hoffman, Executive Director, National Prison Rape Elimination Commission, (202) 514-7922.

Dated: July 11, 2006.
Richard B. Hoffman,
Executive Director, National Prison Rape Elimination Commission.

[FR Doc. 06-6391 Filed 7-20-06; 8:45 am]

BILLING CODE 4410-18-M